DEPARTMENT OF HOMELAND SECURITY

Federal Emergency Management Agency

[Docket ID FEMA-2015-0001; Internal Agency Docket No. FEMA-B-1540]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 28, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1540 to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: October 8, 2015.
Roy E. Wright,
Deputy Associate Administrator for Insurance and Mitigation, Department of Homeland Security, Federal Emergency Management Agency.

I. Non-Watershed-Based Studies

Community | Community map repository address
Contra Costa County, CA and Incorporated Areas
Maps Available for Inspection Online at: http://www.fema.gov/preliminaryfloodhazarddata
Project: 09-09-3059S Preliminary Date: June 12, 2015
City of Antioch | Engineering and Development, Services Division, 200 H Street, Antioch, CA 94509.
City of Brentwood | Community Development, Building Division, 150 City Park Way, Brentwood, CA 94513.
City of Clayton | C/O City Engineer, 1470 Civic Court, Suite 320, Concord, CA 94520.
City of Concord | C/O Floodplain Administrator/City Engineer, 1950 Parkside Drive MS/52, Concord, CA 94519.
City of Hercules | Engineering Department, 111 Civic Drive, Hercules, CA 94547.
City of Lafayette | Planning Office, 3675 Mount Diablo Boulevard, Suite 210, Lafayette, CA 94549.
City of Martinez | Engineering Department, 525 Henrietta Street, Martinez, CA 94553.
City of Oakley | Public Works and Engineering, 3231 Main Street, Oakley, CA 94561.
City of Pinole | Public Works Department, 2131 Pear Street, Pinole, CA 94564.
City of Pittsburg | Engineering Record Section, City Hall, 65 Civic Avenue, Pittsburg, CA 94565.
City of Richmond | Engineering Division, 450 Civic Center Plaza, Richmond, CA 94804.
City of San Pablo | Planning/Zoning, 13831 San Pablo Avenue, San Pablo, CA 94806.
City of Walnut Creek | Public Works Department, Engineering Division, 1666 North Main Street, Walnut Creek, CA 94596.
Town of Danville | Engineering Department, 510 La Gonda Way, Danville, CA 94526.
Unincorporated Areas of Contra Costa County | Public Works Department, 255 Glacier Drive, Martinez, CA 94553.
Adair County, Iowa, and Incorporated Areas
Maps Available for Inspection Online at: http://www.fema.gov/preliminaryfloodhazarddata
Project: 15-07-0896S Preliminary Date: May 18, 2015
City of Bridgewater | City Hall, 105 North Main Street, Bridgewater, IA 50837.
City of Fontanelle | City Hall, 313 Washington Street, Fontanelle, IA 50846.
City of Stuart | City Hall, 119 East Front Street, Stuart, IA 50250.
Unincorporated Areas of Adair County | Adair County Courthouse, 400 Public Square, Suite 5, Greenfield, IA 50849.
Adams County, Iowa, and Incorporated Areas
Maps Available for Inspection Online at: http://www.fema.gov/preliminaryfloodhazarddata
Project: 15-07-0893S Preliminary Date: May 18, 2015
City of Carbon | City Hall, 300 B Street, Carbon, IA 50839.
City of Corning | City Hall, 601 6th Street, Corning, IA 50841.
City of Nodaway | Community Building, 300 7th Avenue, Nodaway, IA 50857.
City of Prescott | City Hall, 607 2nd Street, Prescott, IA 50859.
Unincorporated Areas of Adams County | Adams County Courthouse, 500 9th Street, Corning, IA 50841.
Guthrie County, Iowa, and Incorporated Areas
Maps Available for Inspection Online at: http://www.fema.gov/preliminaryfloodhazarddata
Project: 15-07-0899S Preliminary Date: May 18, 2015
City of Bagley | City Hall, 207 Main Street, Bagley, IA 50026.
City of Bayard | City Hall, 403 Main Street, Bayard, IA 50029.
City of Casey | City Hall, 503 McPherson Street, Casey, IA 50048.
City of Guthrie Center | City Hall, 102 North 1st Street, Guthrie Center, IA 50115.
City of Jamaica | City Hall, Clerk's Office, 202 Van Nest Street, Jamaica, IA 50128.
City of Panora | City Hall, 102 Northwest 2nd Street, Panora, IA 50216.
Unincorporated Areas of Guthrie County | Guthrie County Courthouse, 200 North 5th Street, Guthrie Center, IA 50115.
Taylor County, Iowa, and Incorporated Areas
Maps Available for Inspection Online at: http://www.fema.gov/preliminaryfloodhazarddata
Project: 15-07-0892S Preliminary Date: May 18, 2015
City of Bedford | City Hall, 625 Court Avenue, Bedford, IA 50833.
City of Blockton | City Hall, 405 Division Street, Blockton, IA 50836.
City of Conway | City Hall, 308 Broad Street, Conway, IA 50833.
City of Gravity | City Hall, 405 Main Street, Gravity, IA 50848.
City of Lenox | City Hall, 200 South Main Street, Lenox, IA 50851.
Unincorporated Areas of Taylor County | Taylor County Courthouse, 405 Jefferson Street, Bedford, IA 50833.
Carson City, Nevada (Independent City)
Maps Available for Inspection Online at: http://www.fema.gov/preliminaryfloodhazarddata
Project: 15-09-1031S Preliminary Date: May 22, 2015
City of Carson City | Carson City Permit Center, 108 East Proctor Street, Carson City, N 89701.

[FR Doc. 2015-27755 Filed 10-29-15; 8:45 am]

BILLING CODE 9110-12-P